DEPARTMENT OF HEALTH AND HUMAN SERVICES

Office of the Secretary

Funding Opportunity Title: Announcement of Availability of Funds for Cooperative Agreements for Family Planning Research

Announcement Type: This is the initial announcement of this competitive funding opportunity.

CFDA Number: 93.974.

Authority: Section 1004 of the Public Health Service (PHS) Act.

DATES: To receive consideration, applications must be received by the Office of Public Health and Science (OPHS) Grants Management Office no later than August 9, 2004.

SUMMARY: The Office of Population Affairs (OPA) announces the availability of fiscal year (FY) 2004 funds for a cooperative agreement program for family planning research. The purpose of this program is to obtain data or research-based information which can be used to help improve the delivery of family planning services.

Title X of the Public Health Service Act, 42 U.S.C. 300, et seq., authorizes programs related to family planning. Section 1004 of the Act, as amended, authorizes the Secretary of Health and Human Services to award grants to entities for research in the biomedical, contraceptive development, behavioral, and program implementation fields related to family planning and population. Implementing regulations can be found at 42 CFR part 52.

The OPA is committed to achieving the health promotion and disease prevention objectives of “Healthy People 2010,” a PHS-led national activity for setting priority areas. This announcement is related to the priority area of family planning. Potential applicants may obtain a copy of “Healthy People 2010” at http://www.health.gov/healthypeople.

Overview Summary

The Office of Population Affairs (OPA) announces the availability of $350,000 to $450,000 for fiscal year (FY) 2004 funds for one to three cooperative agreement projects for family planning research. Awards will be $150,000 to $250,000 per year and will be funded in annual increments (budget periods) and may be approved for a project period of up to five years. Funding for all budget periods beyond the first year of the cooperative agreement is contingent upon the availability of funds, satisfactory progress of the project, and adequate stewardship of Federal funds.

I. Funding Opportunity Description

This announcement seeks applications from public and non-profit private entities to conduct data analyses and related research and evaluation on issues of interest to the family planning field. Many persons have observed that gaps exist in the array of data and analyses needed by administrators, planners, and researchers in the field of family planning. The need for such data is likely to increase. Therefore, funds available under this announcement are for projects to increase the availability of data and research-based information which will be useful to family planning administrators and providers, researchers, and officials of local, State, and the Federal government, including OPA, in order to improve the delivery of family planning services to persons needing and desiring such services.

II. Award Information

The OPA intends to make available approximately $350,000 to $450,000 to support an estimated one to three research projects. Awards will range from $150,000 to $250,000 per year. Projects will be funded in annual increments (budget periods) and may be approved for a project period of up to five years. Funding for all budget periods beyond the first year of the cooperative agreement is contingent upon the availability of funds, satisfactory progress of the project, and adequate stewardship of Federal funds.

A cooperative agreement is an award instrument establishing an “assistance” relationship between OPA and a recipient, in which substantial programmatic involvement with the recipient is anticipated during performance of the activity. The recipient will have lead responsibilities in all aspects of the study, including any modification of study design, conduct of the study, data analysis and interpretation, and preparation of publications. However, OPA will collaborate with the recipient, as appropriate, and provide consultation, assistance, and support in planning, implementing, and evaluating all aspects of the proposed plan. OPA will provide assistance in the preparation and review of reports to be disseminated.

III. Eligibility Information

1. Eligible Applicants

Any public or private nonprofit entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a cooperative agreement under this announcement. Faith-based organizations are eligible to apply for these cooperative agreements for family planning research.

2. Cost-Sharing or Matching

No cost sharing or matching of non-Federal funds is required.

IV. Application and Submission Information

Form of Application and Submission Information

1. Address to Request Application Package

Applications kits may be requested from, and applications should be submitted to: OPHS Grants Management Office, 1101 Wootton Parkway, Suite 550, Rockville, MD 20852, (301) 594-0758. Application kits are also available online through the OPA Web site at http://opa.osophs.dhhs.gov, may be requested by fax at (301) 594-9399, or may be obtained through the electronic grants management system, e-Grants. (Instructions for use of the e-Grants system may be obtained from the OPA Web site, or by calling the Grants Management Office at (301) 594-0758).

2. Content and Form of Application Submission

Applications must be submitted on Form OPHS-1 (Revised 6/01) and in the manner prescribed in the application kit. Submissions may be either electronic or in hard copy in the manner prescribed.

Applications should be limited to 60 double-spaced pages, not including appendices, using an easily readable serif typeface, such as Times Roman, Courier, or GC Times. All pages, charts, figures and tables should be numbered. Appendices may include curriculum vitae of key staff and other evidence of organizational experience and capabilities. Please note that appendices are supplementary information, and are not intended to be a continuation of the program narrative. Appendices should be clearly labeled. Applications must include a one-page abstract of the proposed project. The abstract will be used to provide reviewers with an overview of the application, and will form the basis for the application summary in grants management documents.

All applicants are required to submit an original application signed by an individual authorized to act for the applicant agency or organization and to assume for the organization the obligations imposed by the terms and conditions of the grant award. If the application is submitted electronically, a hard-copy of the OPHS-1 (Rev. 06/01) face-page with original signature must also be received on or before the deadline date listed in the DATES section of this announcement. An electronic submission is not considered complete unless both the electronic application and the hard-copy face-page with original signature are received by the application due date.

Program Requirements/Application Content

This notice solicits applications for projects to conduct data analysis and related research which will be useful in improving the delivery of family planning services by identifying areas in family planning in much need of attention and by assessing how well the Title X family planning program is meeting its objectives. In order to be competitive, an application should (1) describe a set of information needs in the field of family planning in the United States deemed by the applicant to represent the most pressing data gaps for the efficient and effective provision of family planning services and (2) propose a coherent five-year program of research and evaluation, data analysis estimation and/or assessment designed to fill these needs in a practical and creative manner.

The application should outline the frequency of any particular proposed analyses (i.e., continuously, annually, biennially, or once during the five-year project period of this cooperative agreement), describe the methodologies to be used, and propose a plan to make accessible the products of this project to the OPA as well as to the audience intended, (i.e., administrators, providers, and researchers), including via the Internet, for the five-year period of the project. The application should reflect a good understanding of the systems by which family planning services are provided, and a familiarity with research, data collection systems, and analyses in the area of family planning and population studies supported by other sources. The application should also include a discussion of the relationship of the studies proposed for support under this cooperative agreement to research and analyses supported by other sources. An explanation of the relevance and importance of the analytic, research, and evaluation activities proposed for this cooperative agreement, and a justification of the expected utility of the analytic products expected from this effort should also be included in this application.

Although the purpose of this announcement is to encourage applicants to develop and propose analytic strategies which they will pursue if supported under this announcement, there are a number of areas described below that are of specific interest to OPA. These include, but are not limited, to the following:

A. Estimates and Characteristics of Clients Served and Population in Need

1. Estimates of the size and geographic distribution of the population at risk of unintended pregnancy;

2. Estimates of the size and geographic distribution of the population in need of subsidized family planning services;

3. Characteristics, in terms of age, race, and income or poverty status of the two populations listed above (1 and 2);

4. Estimates of the size, geographic distribution, and characteristics of populations in need of family planning services but currently not being served;

B. Patterns and Trends in Delivery of Family Planning Services

1. Patterns of family planning and reproductive health care service delivery among the varied sources of family planning services (clinics, physicians' offices, community health centers, etc.);

2. Patterns of integration of family planning with related services including sexually transmitted infections (STI) services, HIV prevention, intimate partner violence, substance abuse, and cancer screening;

3. Patterns and trends in providing services to adolescents, including use of school settings, special clinics, special protocols;

4. Patterns and trends in the training, recruitment, and retention of clinic personnel;

5. The trends and patterns of family planning services to males and the role and influence of males in contraceptive decision-making and pregnancy prevention, as well as reproductive health;

6. Trends in the growing costs of delivering services, payment sources for family planning services, patterns in insurance coverage for family planning services, specifically for Title X clients;

7. Utilization of outreach, follow-up, and case management strategies in provision of services to hard to reach clients such as substance abusers, persons at high STD/HIV risk, adolescents, issues related to limited english proficiency (LEP) and other hard-to-reach populations.

8. Racial and ethnic disparities in reproductive health and access to reproductive health care.

In addition to the areas described above, applicants' topic selection should be guided by the knowledge that Title X appropriations for the family planning program administered by OPA include two important legislative mandates. These are as follows:

(1) None of the funds appropriated in this Act may be made available to any entity under Title X of the Public Health Service Act unless the applicant for the award certifies to the Secretary that it encourages family participation in the decision of minors to seek family planning services and that it provides counseling to minors on how to resist attempts to coerce minors into engaging in sexual activities; and

(2) Notwithstanding any other provision of law, no provider of services under Title X of the Public Health Service Act shall be exempt from any State law requiring notification or the reporting of child abuse, child molestation, sexual abuse, rape, or incest.

The principal purpose of this project is not to collect original data. However, if it is relevant and it can be demonstrated that appropriate data do not exist elsewhere, some collection of original data is not precluded. Applications also must provide a plan on how information will be disseminated.

The Title X program is intended to address the health needs of all men and women, including all subgroups as characterized by age, class, race, and ethnicity. Members of minority groups should be included in all proposed research unless a clear and compelling rationale or justification establishes that such inclusion is inappropriate. Applicants should approach their research and analysis with considerations of class, race, and ethnicity in mind whenever possible.

As a cooperative agreement, OPA will have substantial involvement with the recipient in prioritizing identified research activities proposed and/or identifying additional research topics or approaches. Other research, changing conditions, or new priorities may cause some activities proposed, particularly for the later years of this project, to be superseded in importance, and may necessitate modifications in actual work plans. This reprioritization will be negotiated between successful applicants and the OPA.

3. Submission Dates and Times

Applications will be considered as meeting the deadline if they are electronically submitted, or hand-delivered to the OPHS Grants Management Office on or before the deadline listed in the DATES section of this announcement. Hand-delivered applications must be received by the OPHS Grants Management Office not later than 4:30 eastern standard time on the application due date.

Electronic Submission: The OPA encourages electronic submission of grant applications using the OPHS e-Grants system. Instructions for use of this system are available on the OPA Web site, http://opa.osophs.dhhs.gov, or may be requested from the OPHS Grants Management Office at (301) 594-0758.

The body of the application and required forms can be submitted using the e-Grants system. In addition to electronically submitted materials, applicants are required to provide a hard copy of the application face page (Standard Form 424 [Revised 07/03]) with the original signature of an individual authorized to act for the applicant agency or organization and to assume for the organization the obligations imposed by the terms and conditions of the grant award. The application is not considered complete until both the electronic application and the hard copy face page with original signature are received. Both must be received on or before the due date listed in the DATES section of this announcement.

Hard Copy Applications: Applications submitted in hard copy must include an original and two copies of the application. The original application must be signed by an individual authorized to act for the applicant agency or organization and to assume for the organization the obligations imposed by the terms and conditions of the grant award.

Mailed applications will be considered as meeting the deadline if they are received by the OPHS Office of Grants Management on or before the deadline listed in the DATES section of this announcement. The application due date requirement specified in the announcement supercedes the instructions in the OPHS-1. Applications which do not meet the deadline will be returned to the applicant unread.

Hand-delivered applications must be received by the OPHS Grants Management Office no later than 4:30 p.m. eastern standard time on the application due date. Applications delivered to the OPHS Grants Management Office after the deadline described above will not be accepted for review. Applications sent via facsimile or by electronic mail outside the e-Grants system will not be accepted for review. Applications which do not conform to the requirements of this program announcement will not be accepted for review, and will be returned to the applicant.

Applicants are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the OPA Web site at: http://opa.osophs.dhhs.gov/duns.html.

What to submit:

Original copy of the application with an original signature of an official with the authority to commit the applicant organization to the terms and conditions of a grant, if a grant is awarded. All pages of the application (limited to 60 double-spaced, not including appendices) should be numbered

Submit an original and two (2) copies of the application

Table of contents with identifying sections and corresponding page numbers

Form OPHS-1 (Rev. 06/01) (pages SF 424, SF 424A)

Budget Justification

Project Narrative

Position Descriptions

Resumes of all professional staff

Appendices

Confirmation of Application Receipt

4. Intergovernmental Review

Review Under Executive Order 12372: Applicants under this announcement are exempt from the review requirements of Executive Order 12372, “Intergovernmental Review of Federal Programs,” as implemented by 45 CFR part 100.

5. Funding Restrictions

The allowability, allocability, reasonableness, and necessity of direct and indirect costs that may be charged to OPHS grants are outlined in the following documents: OMB Circular A-21 (Institutions of Higher Education); OMB Circular A-87 (State and Local Governments); OMB Circular A-122 (Nonprofit Organizations): and 45 CFR part 74, Appendix E (Hospitals). Copies of the Office of Management and Budget (OMB) Circulars are available on the Internet at http://www.whitehouse.gov/omb/grants/grants_circulars.html.

6. Other Submission Requirements

See Section IV.3.

V. Application Review Information

1. Criteria

The award decision will take into account the extent to which the applicant's proposed project is useful to planners and providers of family planning services, local, State, and Federal administrators and researchers in the areas of family planning and population studies, according to the following criteria:

A. The extent to which the proposal presents a coherent and well-justified plan for data analysis and research for the five year term of the cooperative agreement (15 points);

B. The extent to which the application reflects a good understanding of the systems for provision of family planning services in the United States and familiarity with data systems and relevant research (10 points);

C. The extent to which the applicant organization demonstrates in the application its ability to analyze data and make these analyses accessible to providers, planners, administrators and researchers in the area of family planning (10 points);

D. The extent to which the application creatively and efficiently proposes to use existing data and analyses, and to fill knowledge gaps by proposing analyses, research, estimations, and assessment tasks to fill the gaps (15 points);

E. The extent to which the application provides for periodic reporting (15 points);

F. Competency of proposed staff in relation to the research proposed (15 points);

G. Adequacy and feasibility of proposed methodology for carrying out planned activities (10 points);

H. Reasonableness of proposed budget in relation to the proposed project and adequacy of resources already available for the project (10 points).

2. Review and Selection Process

Applications in response to this solicitation will be reviewed on a nationwide basis and in competition with other submitted applications. Eligible applications will be reviewed by an Objective Review Committee which will apply the above review criteria in order to derive priority scores. The application of the review criteria will take into account the applicant's familiarity with and access to relevant data sets in the areas of family planning and population studies, and demonstrated ability to analyze data and present it in a manner useful to researchers, administrators and family planning providers.

Final award decisions will be made by the Deputy Assistant Secretary for Population Affairs (DASPA). In making the award decision, the DASPA will take into consideration the priority score, program relevance, and the availability of funds.

VI. Award Administration Information

1. Award Notice

The OPA does not release information about individual applications during the review process. When a final funding decision has been made, each applicant will be notified by letter of the outcome. The official document notifying an applicant that a project application has been approved for funding is the Notice of Grant Award, which specifies the amount of money awarded, the purposes of the cooperative agreement, the length of the project period, and the terms and conditions of the award.

2. Administrative and National Policy Requirements

In accepting this award, the recipient stipulates that the award and any activities thereunder are subject to all provisions of 45 CFR parts 74 and 92, currently in effect or implemented during the period of the cooperative agreement.

The Buy American Act of 1933, as amended (41 U.S.C. 10a-10d), requires that Government agencies give priority to domestic products when making purchasing decisions. Therefore, to the greatest extent practicable, all equipment and products purchased with cooperative agreement funds should be American-made.

A Notice providing information and guidance regarding the “Government-wide Implementation of the President's Welfare-to-Work Initiative for Federal Grant Programs” was published in the Federal Register on May 16, 1997. This initiative was designated to facilitate and encourage grant recipients and their sub-recipients to hire welfare recipients and to provide additional needed training and/or mentoring as needed. The text of the Notice is available electronically on the OMB home page at http://www.whitehouse.gov/omb.

3. Reporting

Semi-annual briefings, and an annual progress and financial status reports must be submitted according to a schedule to be established by OPA. Applicants must submit all required reports in a timely manner, in recommended format (to be provided), and submit a final report on the project at the completion of the project period. Submissions of all required reports may be either electronic or in hard copy.

VII. Agency Contact(s)

For information on specific research or program requirements, contact Eugenia Eckard, Office of Population Affairs, 1101 Wootton Parkway, Suite 700 Rockville, MD 20852, (301) 594-4001, or via Email at eeckard@osophs.dhhs.gov. For assistance on administrative and budgetary requirements, contact Karen Campbell, Director, OPHS Grants Management Office, 1101 Wootton Parkway, Suite 550, Rockville, MD, (301) 594-0758, or via E-mail at kcampbell@osophs.dhhs.gov.

Dated: June 3, 2004.
Alma L. Golden,
Deputy Assistant Secretary for Population Affairs.

[FR Doc. 04-13112 Filed 6-9-04; 8:45 am]

BILLING CODE 4150-34-P